FEDERAL COMMUNICATIONS COMMISSION

47 CFR Part 73

[DA 00-2104; MM Docket No. 00-109; RM-9899]

Radio Broadcasting Services; Ravenwood, MO

AGENCY: Federal Communications Commission.

ACTION: Final rule.

SUMMARY: This document allots Channel 291A to Ravenwood, Missouri, in response to a petition filed by Clyde John Holdsworth and Ronald G. Fillbeck d/b/a R.C. Broadcasting Company. See 65 FR 41036, July 3, 2000. The coordinates for Channel 291A at Ravenwood are 40-21-09 NL and 94-40-16 WL. A filing window for Channel 291A at Ravenwood will not be opened at this time. Instead, the issue of opening a filing window for this channel will be addressed by the Commission in a subsequent order.

DATES: Effective October 30, 2000.

ADDRESSES: Federal Communications Commission, Washington, DC 20554.

FOR FURTHER INFORMATION CONTACT: Kathleen Scheuerle, Mass Media Bureau, (202) 418-2180.

SUPPLEMENTARY INFORMATION: This is a summary of the Commission's Report and Order, MM Docket No. 00-109, adopted September 6, 2000, and released September 15, 2000. The full text of this Commission decision is available for inspection and copying during normal business hours in the Commission's Reference Center, 445 12th Street, SW, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—[AMENDED]

1. The authority citation for Part 73 continues to read as follows:

Authority: 47 U.S.C. 154, 303, 334 and 336.

§ 73.202 [Amended]

2. Section 73.202(b), the Table of FM Allotments under Florida, is amended by adding Ravenwood, Channel 291A.

Federal Communications Commission.
John A. Karousos,
Chief, Allocations Branch, Policy and Rules Division, Mass Media Bureau.

[FR Doc. 00-24647 Filed 9-25-00; 8:45 am]

BILLING CODE 6712-01-P